DEPARTMENT OF ENERGY

Advance Notice of Intent to Prepare an Environmental Impact Statement To Evaluate Decommissioning and/or Long-Term Stewardship at the West Valley Demonstration Project and Western New York Nuclear Service Center

AGENCY: Department of Energy.

ACTION: Advance notice of intent.

SUMMARY: The U.S. Department of Energy (DOE) is announcing in advance its intent to prepare an Environmental Impact Statement (EIS) for Decommissioning and/or Long-Term Stewardship at the West Valley Demonstration Project (WVDP) and Western New York Nuclear Service Center (the Center). DOE has prepared this advance notice in accordance with the Department's regulations for implementing the National Environmental Policy Act (NEPA) [10 CFR 1021.311(b)], which state that DOE may publish an Advance Notice of Intent to provide an early opportunity to inform interested parties of a pending EIS or to solicit early public comments. DOE anticipates that the New York State Energy Research and Development Authority (NYSERDA) will participate in the preparation of the Decommissioning and/or Long-Term Stewardship EIS as a joint lead agency, that the U.S. Nuclear Regulatory Commission (NRC) will participate as a cooperating agency, and that the New York State Department of Environmental Conservation (NYSDEC) will participate as an involved agency under the New York State Environmental Quality Review Act (SEQRA).

DOE and NYSERDA plan to evaluate the range of reasonable alternatives in this EIS to address their respective responsibilities at the Center, including those under the West Valley Demonstration Project Act (Public Law 96-368) and other applicable requirements, including decommissioning criteria that may be prescribed by NRC in accordance with the Act.

DOE invites early public comment on the range of environmental issues and alternatives to be analyzed. DOE and NYSERDA will consider the comments received and other relevant information in developing a preliminary scope of the EIS for publication in a subsequent Notice of Intent, which would initiate a public scoping process in accordance with DOE's NEPA implementing regulations and those of SEQRA.

This Advance Notice of Intent is consistent with DOE's March 26, 2001, Notice of Intent (66 FR 16447) to revise the strategy for completing the Draft Environmental Impact Statement for Completion of the West Valley Demonstration Project and Closure or Long-Term Management of Facilities at the Western New York Nuclear Service Center (DOE/EIS-0226-D, March 1996, also referred to as the 1996 Cleanup and Closure Draft EIS), which was issued jointly by DOE and NYSERDA. The March 2001 Notice of Intent announced that DOE intends to prepare a separate EIS on its decontamination of WVDP facilities and related waste management activities.

ADDRESSES: Address early comments on the preliminary scope of the Decommissioning and/or Long-Term Stewardship EIS to the DOE Document Manager: Mr. Daniel W. Sullivan, West Valley Demonstration Project, U.S. Department of Energy, 10282 Rock Springs Road, West Valley, New York 14171, Telephone: (716) 942-4016, facsimile: (716) 942-4703, e-mail: daniel.w.sullivan@wv.doe.gov.

The “Public Reading Rooms” section under SUPPLEMENTARY INFORMATION lists the addresses of the reading rooms where documents referenced herein are available.

FOR FURTHER INFORMATION, CONTACT: For information regarding the WVDP or the EIS, contact Mr. Daniel Sullivan as described above. Those seeking general information on DOE's NEPA process should contact: Ms. Carol M. Borgstrom, Director, Office of NEPA Policy and Compliance, U.S. Department of Energy, 1000 Independence Avenue, SW., Washington, D.C. 20585, Telephone: (202) 586-4600, Facsimile: (202) 586-7031, or leave a message at 1-800-472-2756, toll-free.

Questions for NYSERDA should be directed to: Mr. Paul J. Bembia, New York State Energy Research and Development Authority, 10282 Rock Springs Road, West Valley, New York 14171, Telephone: (716) 942-4900, Facsimile: (716) 942-2148, email: pjb@nyserda.org.

Those seeking general information on the SEQRA process should contact: Mr. Hal Brodie, Deputy Counsel, New York State Energy Research and Development Authority, Corporate Plaza West, 286 Washington Avenue Extension, Albany, New York 12203-6399, Telephone: (518) 862-1090, ext. 3280, Facsimile: (518) 862-1091, email: hb1@nyserda.org.

This Advance Notice of Intent will be available on the internet at http://tis.eh.doe.gov/nepa, under “NEPA Announcements”. Additional information about the WVDP is also available on the internet at http://www.wv.doe.gov/LinkingPages/insidewestvalley.htm.

SUPPLEMENTARY INFORMATION: DOE announces its Advance Notice of Intent to prepare an EIS for Decommissioning and/or Long-Term Stewardship at the WVDP and the Center. DOE has prepared this Advance Notice of Intent in accordance with the Department's regulations for implementing NEPA [10 CFR 1021.311(b)], which state that DOE may publish an Advance Notice of Intent to provide an early opportunity to inform interested parties of a pending EIS or to solicit early public comments.

DOE intends to prepare this EIS jointly with NYSERDA, although either agency may, at any point, determine the need to proceed independently in support of their independent missions. In preparing this Advance Notice of Intent, DOE anticipates that the Department would be the lead Federal agency for purposes of compliance with NEPA, while NYSERDA would be the lead State agency for purposes of compliance with SEQRA. DOE also anticipates that NRC would participate as a cooperating agency under NEPA and that NYSDEC would be an involved agency under SEQRA.

Invitation to Comment

DOE invites the public to provide early assistance in identifying significant environmental issues and alternatives to be analyzed in the forthcoming Decommissioning and/or Long-Term Stewardship EIS. DOE and NYSERDA will consider public comments and other relevant information as the agencies jointly develop a Notice of Intent for publication in the Federal Register and a notice for publication in the New York State Environmental Notice Bulletin. DOE and NYSERDA expect the Notice of Intent to contain a preliminary range of reasonable alternatives proposed for analysis as agreed to by DOE and NYSERDA. Further, DOE and NYSERDA expect to publish the Notice of Intent within approximately a year of publishing this advance notice. Although a public scoping meeting will not be held until the public scoping process required by NEPA has been initiated, DOE and NYSERDA would give equal weight to written comments submitted in response to this Advance Notice of Intent and comments received during the public scoping process.

Background

The Center consists of a 3,345-acre reservation in rural western New York that is the location of the only NRC-licensed commercial spent nuclear fuel reprocessing facilities to have ever operated in the United States. NYSERDA holds title to the Center on behalf of the people of the State of New York. Pursuant to the WVDP Act, DOE and NYSERDA entered into a Cooperative Agreement effective October 1, 1980, that specifies the responsibilities and conditions agreed upon by each for the purpose of carrying out the WVDP. Under the agreement, NYSERDA has made available to DOE, without transfer of title, an approximately 200-acre portion of the Center, known as the “Project Premises,” which includes a formerly operated spent nuclear fuel reprocessing plant, spent nuclear fuel receiving and storage area, liquid high-level waste (HLW) storage tanks, a liquid low-level waste treatment facility with associated lagoons, and a radioactive waste disposal area licensed by the NRC. Adjacent to and in the vicinity of the Project Premises is an area referred to as the State Licensed Disposal Area, for which NYSERDA has responsibility.

The WVDP Act authorizes NRC to prescribe decommissioning criteria for the WVDP. At this time, DOE anticipates that the NRC would resume regulatory oversight of the Center, with the exception of the State Licensed Disposal Area, following DOE's completion of the WVDP.

Section 2(a)(1-5) of the WVDP Act articulates the five actions required of DOE. Actions 1 and 2 address HLW solidification and development of appropriate containers for the solidified wastes. Action 3 requires DOE to transport the solidified HLW to a Federal geologic repository for permanent disposal. Action 4 requires DOE to dispose of low-level and transuranic wastes generated by HLW solidification and in connection with the WVDP. Action 5 requires DOE to decontaminate and decommission the tanks, facilities, material, and hardware used in the solidification of HLW and in connection with the WVDP.

Actions 1 and 2 were the focus of a 1982 Final EIS (DOE/EIS-0081) and Record of Decision (47 FR 40705, September 15, 1982) on HLW solidification. The 1996 Cleanup and Closure Draft EIS examined the remaining actions, 3, 4, and 5. Considering the comments received on the 1996 Cleanup and Closure Draft EIS, ongoing discussions between the joint lead agencies (DOE and NYSERDA), and discussions with NRC, DOE now intends to conduct the NEPA process for actions 3, 4, and 5 in two separate EISs. Accordingly, DOE announced its intent to prepare a Decontamination and Waste Management EIS on March 26, 2001 (66 FR 16447), which will only address DOE's decision-making with respect to managing Project wastes and decontaminating Project facilities as stipulated in actions 3 and 4 and decontamination activities for Project facilities stipulated in action 5. DOE will need to conduct these activities regardless of future decommissioning and/or long-term stewardship decisions.

DOE expects the Decommissioning and/or Long-Term Stewardship EIS announced herein to address DOE's remaining activities under the WVDP Act as stipulated in action 5, any waste management activities under action 4 that could arise as a result of decommissioning activities, and NYSERDA's activities relative to decommissioning or long-term stewardship of land and facilities under its purview. DOE believes that the activities identified for the Decontamination and Waste Management EIS and for the Decommissioning and/or Long-Term Stewardship EIS are separate and distinct and are thus appropriate for analysis in two EISs, consistent with NEPA and its implementing regulations.

Purpose and Need for Action

DOE needs to determine the manner that facilities for which the Department is responsible under the WVDP Act are decommissioned, in accordance with the criteria yet to be prescribed by the NRC. NYSERDA needs to develop a strategy for decommissioning or long-term stewardship for land and facilities under its purview. To this end, DOE and NYSERDA would determine what, if any, material or structures would remain on the site and what, if any, institutional controls would be required, in accordance with their respective agency responsibilities.

Potential Range of Alternatives

DOE anticipates, at this time, that its alternatives to be proposed for analysis in the Decommissioning and/or Long-Term Stewardship EIS would range from complete removal of Project waste and facilities to in-place closure of Project facilities, including a No Action Alternative as required by NEPA, and that NYSERDA would propose a similar range of decommissioning and/or long-term stewardship alternatives to those proposed by DOE, for the facilities and areas for which NYSERDA is responsible. Additional alternatives may also be presented after consultation with NRC, NYSERDA and the public. However, DOE and NYSERDA expect the potential alternatives to be sufficiently consistent in concept with those identified in the1996 Draft Cleanup and Closure EIS to allow the use of technical information presented therein, supplemented as needed.

New Information To Be Evaluated

NRC has indicated that it intends to publish a draft policy statement on prescribing decommissioning criteria for the WVDP for public comment and subsequently issue a final statement that would include its response to comments. Based upon ongoing discussions with the Commission, DOE and NYSERDA intend at this time to apply the NRC's License Termination Rule (10 CFR 20.1401 et seq.) as draft decommissioning criteria in assessing the health and environmental impacts of decommissioning the WVDP facilities, pending NRC issuance of its final Policy Statement on decommissioning criteria for the WVDP. If the final decommissioning criteria are issued before completion of the EIS, the results in the EIS will reflect any changes in criteria.

In 1997, the NRC published the Generic Environmental Impact Statement in Support of Rulemaking on Radiological Criteria for License Termination of NRC-Licensed Nuclear Facilities (NUREG-1496) to support its decision-making on establishing explicit radiological criteria for decommissioning various types of facilities, including nuclear power plants, non-power reactors, fuel fabrication plants, uranium hexaflouride production plants, and independent spent fuel storage installations. This EIS analyzed courses of action that NRC would take in establishing radiological criteria for decommissioning and the cost and environmental impacts associated with those alternatives. Based on this analysis, the NRC promulgated its Final License Termination Rule (62 FR 39086, July 21, 1997). Although this EIS did not evaluate a reference spent fuel reprocessing facility, DOE and NYSERDA intend to use those aspects of NRC's EIS that may have specific relevance to the West Valley site.

Further, DOE and NYSERDA also intend to evaluate other available NRC NEPA documents to identify elements that would be applicable to decommissioning activities at the WVDP and the Center. NRC issued the Final Generic Environmental Impact Statement on Decommissioning of Nuclear Facilities (NUREG-0586) in 1988 to assist it in reevaluating its regulatory requirements for decommissioning of nuclear facilities. In this EIS, the NRC evaluated the areas of decommissioning alternatives, financial assurance, planning, and residual radioactivity levels. This EIS was prepared to support the General Requirements for Decommissioning of Nuclear Facilities, Final Rule (53 FR 24018, June 27, 1988) and analyzed a number of reference licensed facilities, including the Barnwell spent fuel reprocessing design, which was never demonstrated. The Barnwell facility, unlike the West Valley reprocessing facility, was designed for short-term liquid HLW storage and subsequent near-term HLW vitrification. The NRC is currently supplementing this EIS (65 FR 25395, May 1, 2000) to evaluate certain decommissioning alternatives for power reactor facilities in more detail.

For the 1996 Draft WVDP Cleanup and Closure EIS, DOE developed or modified a variety of analytical tools specifically for that document. DOE has continued to refine many of these analytical tools as a result of public comments received on the 1996 Draft Cleanup and Closure EIS and ongoing interactions with stakeholders and regulatory agencies such as the NRC. DOE intends to apply these improved analytical tools to the preparation of the Decommissioning and/or Long-Term Stewardship EIS. To address significant issues such as erosion, for example, DOE has continued to develop a site-specific erosion model, with ongoing advice from NRC, and integrated that model into a revised performance assessment methodology, incorporating the use of sensitivity and uncertainty analyses.

There are also some additional areas where new information will be obtained specifically for the Decommissioning and/or Long-Term Stewardship EIS. This work includes updated site characterization and census data and the performance of a seismic reflection survey in the vicinity of the WVDP. This seismic reflection survey, to be performed in consultation with academic, government, and industry participants, will contribute to knowledge about the regional structural geology as it may relate to the WVDP and the Center.

Additional information that has become available since publication of the 1996 Draft Cleanup and Closure EIS includes DOE's Waste Management Programmatic Environmental Impact Statement (WM PEIS, DOE/EIS-0200-F) and its associated Records of Decision. The WM PEIS analyzed on a national scale the centralization, regionalization, or decentralization of managing HLW, transuranic waste, low-level radioactive waste, mixed radioactive low-level waste (containing hazardous constituents), and non-wastewater hazardous waste. The Decommissioning and/or Long-Term EIS will incorporate, as appropriate, analyses from the WM PEIS so as to analyze site-specific activities necessary to implement the pertinent parts of the Records of Decision that apply to West Valley. The Decommissioning and/or Long-Term Stewardship EIS will also incorporate, as needed, information made available as a result of the Decontamination and Waste Management EIS.

Potential Environmental Issues for Analysis

DOE has tentatively identified the following issues for analysis in the Decommissioning and/or Long-Term Stewardship EIS. The list is presented to facilitate early comment on the scope of the EIS. It is not intended to be all-inclusive nor to predetermine the alternatives to be analyzed or their potential impacts.

• Potential impacts to the general population and on-site workers from radiological and non-radiological releases from decommissioning and/or long-term stewardship activities.

• Potential environmental impacts, including air and water quality impacts, caused by decommissioning and/or long-term stewardship activities.

• Potential transportation impacts from shipments of radioactive, hazardous, or mixed waste generated during decommissioning activities.

• Potential impacts from postulated accidents.

• Potential disproportionately high and adverse effects on low-income and minority populations (environmental justice).

• Potential Native American concerns.

• Irretrievable and irreversible commitment of resources.

• Short-term and long-term land use impacts.

• Decommissioning criteria for the WVDP.

• Compliance with Federal, State, and local requirements.

• The influence of, and potential interactions of, any wastes remaining at the Center after decommissioning.

• Unavoidable adverse impacts.

• Issues associated with decommissioning and long-term site stewardship, including regulatory and engineering considerations.

• Long-term site stability, including erosion and seismicity.

Other Agency Involvement

NYSDEC and the U.S. Environmental Protection Agency entered into an Administrative Order on Consent with DOE and NYSERDA in March 1992, pursuant to section 3008(h) of the Hazardous and Solid Waste Amendments of 1984 under the Resource Conservation and Recovery Act. The purpose of the Order is to protect human health and the environment from releases of hazardous waste and/or hazardous constituents. DOE and NYSERDA expect to continue ongoing work with NYSDEC and the U.S. Environmental Protection Agency to integrate the requirements of the Order with the EIS process. DOE anticipates that NYSDEC therefore would participate in the Decommissioning and/or Long-Term Stewardship EIS to the extent required to address its regulatory responsibilities for the WVDP and the Center, including the State Licensed Disposal Area, as an involved agency under SEQRA.

Future Public Involvement

This Advance Notice of Intent does not serve as a substitute for the Notice of Intent that would initiate the public scoping process for the Decommissioning and/or Long-Term Stewardship EIS. After that Notice of Intent is published, DOE and NYSERDA expect to conduct the public scoping process in accordance with NEPA, the Council on Environmental Quality NEPA implementing regulations (40 CFR 1500—1508), the DOE's implementing regulations (10 CFR part 1021), and with New York's SEQRA and its implementing regulations (6 NYCRR 617). The scoping process will include a public meeting and a public comment period on the scope of the EIS.

Public Reading Rooms

Documents referenced in this Advance Notice of Intent and related information are available at the following locations.

Central Buffalo Public Library Science and Technology Department, Lafayette Square, Buffalo, New York 14203, (716) 858-7098

The Olean Public Library, 134 North 2nd Street, Olean, New York 14760, (716) 372-0200

The Hulbert Library of the Town of Concord, 18 Chapel Street, Springville, New York 14141, (716) 592-7742

West Valley Central School Library, 5359 School Street, West Valley, New York 14141, (716) 942-3261

Ashford Office Complex, 9030 Route 219, West Valley, New York 14171, (716) 942-4555

Issued in Washington, DC, on October 31, 2001.
Steven V. Cary,
Acting Assistant Secretary, Office of Environment, Safety and Health.

[FR Doc. 01-27841 Filed 11-5-01; 8:45 am]

BILLING CODE 6450-01-P